ENVIRONMENTAL PROTECTION AGENCY

[IL-202; FRL-6976-9]

Adequacy Status of the Metro East St. Louis, IL, Submitted Ozone Attainment State Implementation Plan for Transportation Conformity Purposes; Notice of Withdrawal of Adequacy

AGENCY: Environmental Protection Agency (EPA).

ACTION: Notice of withdrawal of adequacy.

SUMMARY: EPA has decided to withdraw our finding of adequacy and find inadequate the motor vehicle emissions budgets in the Metro East St. Louis, Illinois, ozone attainment demonstration State Implementation Plan (SIP) submitted on November 15, 1999, and supplemented on February 10, 2000. We are withdrawing our adequacy finding due to a recent court decision. The United States Court of Appeals for the District of Columbia Circuit decided on August 30, 2000, that the implementation of the Nitrogen Oxides ( NOX) SIP Call rule could not be required before May 31, 2004. The emission levels in the St. Louis attainment demonstration SIP were based on the assumption that transport of ozone precursors into St. Louis from upwind states would be addressed by May 2003 pursuant to EPA's NOX SIP Call. Without these regional NOX SIP Call controls in place in 2003, the Metro East St. Louis area will not be able to demonstrate attainment as described in the submitted SIP. For this reason, the motor vehicle emissions budgets for 2003 can no longer be considered adequate and are inadequate. The notice of the adequacy determination that is being withdrawn was made on June 12, 2000, in a letter to the State and was published in the Federal Register on July 3, 2000.

DATES: The notice of adequacy is withdrawn as of May 10, 2001.

FOR FURTHER INFORMATION CONTACT: Patricia Morris (312-353-8656)

SUPPLEMENTARY INFORMATION:

Background

On June 12, 2000, EPA Region 5 sent a letter to the Illinois Environmental Protection Agency stating that the motor vehicle emissions budgets for NOX and volatile organic compounds (VOCs) in the November 15, 1999, and supplemented on February 10, 2000, Metro East St. Louis ozone attainment demonstration SIP for 2003 were adequate for the purpose of transportation conformity. EPA published a notice in the Federal Register on July 3, 2000, [65 FR 41068] announcing that we had made an adequacy determination for the motor vehicle emissions budgets in the Metro East St. Louis attainment demonstration SIP. This finding was also announced on EPA's conformity website, http://www.epa.gov/oms/traq.

Transportation conformity is required by section 176(c) of the Clean Air Act. EPA's conformity rule requires that transportation plans, programs, and projects conform to SIPs and establishes the criteria and procedures for determining whether or not they do conform. Conformity to a SIP means that transportation activities will not produce new air quality violations, worsen existing violations, or delay timely attainment of the national ambient air quality standards.

EPA described the process for determining the adequacy of submitted SIP budgets in guidance (May 14, 1999, memo titled “Conformity Guidance on Implementation of March 2, 1999, Conformity Court Decision”). This guidance was used in making the adequacy determination on the motor vehicle emissions budgets contained in the ozone attainment demonstration for St. Louis. The criteria by which EPA determines whether a SIP's motor vehicle emission budgets are adequate for conformity purposes are outlined in 40 CFR 93.118(e)(4). An adequacy review is separate from EPA's SIP completeness review, and it also should not be used to prejudge EPA's ultimate action to approve or disapprove the SIP. The SIP could later be disapproved for reasons unrelated to transportation conformity even though the budgets had been deemed adequate.

EPA believes that a consequence of the D.C. Circuit's order delaying the implementation date of the NOX SIP Call rule is that the budgets submitted by Illinois can no longer be considered adequate for purposes of transportation conformity and that these budgets are now inadequate. This belief is based on the fact that the attainment demonstration relied on the expected reductions from the NOX SIP call in 2003, whereas those reductions can not now be assumed prior to 2004.

On November 8, 2000, EPA sent a letter to Illinois advising Illinois of the need to revise the Metro East St. Louis ozone attainment demonstration and to submit revised budgets. The revised budgets are expected to be based on controls that will be in place by the year 2004.

Consequently, EPA has decided to withdraw the June 12, 2000, adequacy determination and is instead finding that the budgets are inadequate. EPA is taking this action without prior notice and comment because adequacy determinations are not considered rulemaking subject to the procedural requirements of the Administrative Procedures Act. In addition, EPA does not believe further notice through EPA's conformity website is necessary in advance because of the delay in the NOX SIP Call implementation date, it is clear that the budgets can no longer be considered adequate. Consequently, further public comment would be unnecessary and not in the public interest. In this action, EPA is also withdrawing all statements and comments previously made in relation to its earlier determination of the adequacy of the budgets for transportation conformity purposes. The substance of the budgets and any revisions to them will be further reviewed by EPA as part of its final decision to on the 1-hour ozone attainment demonstration SIP for the St. Louis nonattainment area. This SIP was initially submitted to EPA on November 15, 1999 and supplemented on February 10, 2000.

EPA will announce the withdrawal of the adequacy determination and inadequacy finding on its conformity website, (go to http://www.epa.gov/otaq/traq and then click on “conformity”).

Dated: April 30, 2001.
Jerri-Anne Garl,
Acting Regional Administrator, Region 5.

[FR Doc. 01-11836 Filed 5-9-01; 8:45 am]

BILLING CODE 6560-50-P